Title 3—

The President

Space Policy Directive-4 of February 19, 2019

Establishment of the United States Space Force

Memorandum for the Vice President[,] the Secretary of State[,] the Secretary of Defense[,] the Secretary of Commerce[,] the Secretary of Labor[,] the Secretary of Transportation[,] the Secretary of Homeland Security[,] the Director of the Office of Management and Budget[,] the Director of National Intelligence[,] the Assistant to the President for National Security Affairs[,] the Director of the Office of Science and Technology Policy[,] the Chairman of the Joint Chiefs of Staff[,] the Administrator of the National Aeronautics and Space Administration[, and] the Deputy Assistant to the President for Homeland Security and Counterterrorism

Section 1. Introduction. Space is integral to our way of life, our national security, and modern warfare. Although United States space systems have historically maintained a technological advantage over those of our potential adversaries, those potential adversaries are now advancing their space capabilities and actively developing ways to deny our use of space in a crisis or conflict. It is imperative that the United States adapt its national security organizations, policies, doctrine, and capabilities to deter aggression and protect our interests. Toward that end, the Department of Defense shall take actions under existing authority to marshal its space resources to deter and counter threats in space, and to develop a legislative proposal to establish a United States Space Force as a sixth branch of the United States Armed Forces within the Department of the Air Force. This is an important step toward a future military department for space. Under this proposal, the United States Space Force would be authorized to organize, train, and equip military space forces of the United States to ensure unfettered access to, and freedom to operate in, space, and to provide vital capabilities to joint and coalition forces in peacetime and across the spectrum of conflict.

Sec. 2. Definitions. For the purposes of this memorandum and the legislative proposal directed by section 3 of this memorandum, the following definitions shall apply:

(a) The term “United States Space Force” refers to a new branch of the United States Armed Forces to be initially placed by statute within the Department of the Air Force.

(b) The term “Department of the Space Force” refers to a future military department within the Department of Defense that will be responsible for organizing, training, and equipping the United States Space Force.

(c) The term “United States Space Command” refers to a Unified Combatant Command to be established pursuant to the Presidential memorandum of December 18, 2018 (Establishment of United States Space Command as a Unified Combatant Command), that will be responsible for Joint Force space operations as will be assigned in the Unified Command Plan.

Sec. 3. Legislative Proposal and Purpose. The Secretary of Defense shall submit a legislative proposal to the President through the Office of Management and Budget that would establish the United States Space Force as a new armed service within the Department of the Air Force.

The legislative proposal would, if enacted, establish the United States Space Force to organize, train, and equip forces to provide for freedom of operation in, from, and to the space domain; to provide independent military options for national leadership; and to enhance the lethality and effectiveness of the Joint Force. The United States Space Force should include both combat and combat support functions to enable prompt and sustained offensive and defensive space operations, and joint operations in all domains. The United States Space Force shall be organized, trained, and equipped to meet the following priorities:

(a) Protecting the Nation's interests in space and the peaceful use of space for all responsible actors, consistent with applicable law, including international law;

(b) Ensuring unfettered use of space for United States national security purposes, the United States economy, and United States persons, partners, and allies;

(c) Deterring aggression and defending the Nation, United States allies, and United States interests from hostile acts in and from space;

(d) Ensuring that needed space capabilities are integrated and available to all United States Combatant Commands;

(e) Projecting military power in, from, and to space in support of our Nation's interests; and

(f) Developing, maintaining, and improving a community of professionals focused on the national security demands of the space domain.

Sec. 4. Scope. (a) The legislative proposal required by section 3 of this memorandum shall, in addition to the provisions required under section 3 of this memorandum, include provisions that would, if enacted:

(i) consolidate existing forces and authorities for military space activities, as appropriate, in order to minimize duplication of effort and eliminate bureaucratic inefficiencies; and

(ii) not include the National Aeronautics and Space Administration, the National Oceanic and Atmospheric Administration, the National Reconnaissance Office, or other non-military space organizations or missions of the United States Government.

(b) The proposed United States Space Force should:

(i) include, as determined by the Secretary of Defense in consultation with the Secretaries of the military departments, the uniformed and civilian personnel conducting and directly supporting space operations from all Department of Defense Armed Forces;

(ii) assume responsibilities for all major military space acquisition programs; and

(iii) create the appropriate career tracks for military and civilian space personnel across all relevant specialties, including operations, intelligence, engineering, science, acquisition, and cyber.

Sec. 5. United States Space Force Budget. In accordance with the Department of Defense budget process, the Secretary of Defense shall submit to the Director of the Office of Management and Budget a proposed budget for the United States Space Force to be included in the President's Fiscal Year 2020 Budget Request.

Sec. 6. United States Space Force Organization and Leadership. (a) The legislative proposal required by section 3 of this memorandum shall create a civilian Under Secretary of the Air Force for Space, to be known as the Under Secretary for Space, appointed by the President by and with the advice and consent of the Senate.

(b) The legislative proposal shall establish a Chief of Staff of the Space Force, who will be a senior military officer in the grade of General or Admiral, and who shall serve as a member of the Joint Chiefs of Staff.

Sec. 7. Associated Elements. (a) A Unified Combatant Command for space, to be known as the United States Space Command, will be established consistent with law, as directed on December 18, 2018. This command will have all of the responsibilities of a Unified Combatant Command in addition to the space-related responsibilities previously assigned to United States Strategic Command. It will also have the responsibilities of the Joint Force provider and Joint Force training for space operations forces. Moving expeditiously toward a Unified Combatant Command reflects the importance of warfighting in space to the Joint Force. The commander of this command will lead space warfighting through global space operations that may occur in the space domain, the terrestrial domains, or through the electromagnetic spectrum.

(b) With forces provided by the United States Space Force and other United States Armed Forces, the United States Space Command shall ensure unfettered access to, and freedom to operate in, space and provide vital effects and capabilities to joint and coalition forces during peacetime and across the spectrum of conflict.

Sec. 8. Relationship with National Intelligence. The Secretary of Defense and the Director of National Intelligence shall create and enhance mechanisms for collaboration between the Department of Defense and the United States Intelligence Community in order to increase unity of effort and the effectiveness of space operations. The Secretary of Defense and the Director of National Intelligence shall provide a report to the President within 180 days of the date of this memorandum on steps they have taken and are planning to take toward these ends, including legislative proposals as necessary and appropriate.

Sec. 9. Operational Authorities. In order to ensure that the United States Space Force and United States Space Command have the necessary operational authorities, the National Space Council and the National Security Council shall coordinate an accelerated review of space operational authorities. Within 90 days of the date of this memorandum, the Secretary of Defense shall present to the National Space Council and the National Security Council proposed relevant authority changes for the President's approval. The National Space Council and the National Security Council shall then conduct an interagency review of the Secretary's proposal and make recommendations to the President on appropriate authorities, to be completed no later than 60 days from the date the Secretary of Defense presents his proposal to the councils.

Sec. 10. Periodic Review. As the United States Space Force matures, and as national security requires, it will become necessary to create a separate military department, to be known as the Department of the Space Force. This department will take over some or all responsibilities for the United States Space Force from the Department of the Air Force. The Secretary of Defense will conduct periodic reviews to determine when to recommend that the President seek legislation to establish such a department.

Sec. 11. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and United States national and homeland security requirements, and subject to the availability of appropriations.

(c) This memorandum is not intended to, and does not, create any right or benefit, substantive or procedural, enforceable at law or in equity by any party against the United States, its departments, agencies, or entities, its officers, employees, or agents, or any other person.

(d) The Secretary of Defense is authorized and directed to publish this memorandum in the Federal Register.

THE WHITE HOUSE,

Washington, February 19, 2019

[FR Doc. 2019-03345

Filed 2-22-19; 11:15 am]

Billing code 5001-06-P